DEPARTMENT OF HOMELAND SECURITY

Coast Guard

[Docket No. USCG-2012-0936]

Commercial Fishing Safety Advisory Committee; Meeting

AGENCY: Coast Guard, DHS.

ACTION: Notice of federal advisory committee meeting.

SUMMARY: The Commercial Fishing Safety Advisory Committee (CFSAC) will meet in Washington, DC to discuss various issues relating to safety in the commercial fishing industry. This meeting will be open to the public.

DATES: The Committee will meet on October 30, 2012, from 8:30 a.m. to 5 p.m., and on October 31, 2012, from 8:30 a.m. to 5:00 p.m. This meeting may close early if all business is finished. Written material and requests to make oral presentations should reach the Coast Guard on or before October 25, 2012.

ADDRESSES: The Committee will meet at the Coast Guard Headquarters Building (Room 6103), 2100 2nd Street SW., Washington, DC 20593. Attendees will be required to provide a picture identification card and pass through magnetometer in order to gain admittance to the U.S. Coast Guard Headquarters Building. Visitors should also arrive at least 30 minutes in case of long lines at the entrance.

For information on facilities or services for individuals with disabilities or to request special assistance at the meeting, contact the person listed in the FOR FURTHER INFORMATION CONTACT section, as soon as possible.

To facilitate public participation, we are inviting public comment on the issues to be considered by the committee as listed in the “Agenda” section below. You may submit written comments no later than October 25, 2012, and they must be identified by docket number [USCG-2012-0936] using one of the following methods:

• Federal eRulemaking Portal: http://www.regulations.gov. Follow the instructions for submitting comments.

• Mail: Docket Management Facility (M-30), U.S. Department of Transportation, West Building Ground Floor, Room W12-140, 1200 New Jersey Avenue SE., Washington, DC 20590-0001. We encourage use of electronic submissions because security screening may delay delivery of mail.

• Fax: (202) 493-2251.

• Hand Delivery: Same as mail address above, between 9:00 a.m. and 5:00 p.m., Monday through Friday, except Federal Holidays. The telephone number is 202-366-9329.

Instructions: All submissions received must include the words “Department of Homeland Security” and docket number [USCG-2012-0936]. All submissions received will be posted without alteration at www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: Any background information or presentations available prior to the meeting will be published in the docket. For access to the docket to read background documents or submissions received by the CFSAC, go to http://www.regulations.gov., insert “USCG-2012-0936” in the “Keyword” box, and then click “Search”.

Public comments and questions may be taken by the Designated Federal Official (DFO) throughout the meeting as each issue is presented or discussed. Additionally, a public presentation/comment period will be offered at the end of each day of the meeting, October 30, and 31, 2012, if needed. Speakers are requested to limit their comments to 5 minutes. Please note that the public comment periods, scheduled for 4 p.m. to 5 p.m., will end following the last call for comments. Contact the individual listed below to register as a speaker.

FOR FURTHER INFORMATION CONTACT: Mr. Jack Kemerer, Alternate Designated Federal Official (ADFO) of CFSAC, Commandant (CG-CVC-3), U.S. Coast Guard Headquarters, 2100 Second Street SW., Mail Stop 7581, Washington, DC 20593-7581; telephone 202-372-1249, fax 202-372-1917, email: jack.a.kemerer@uscg.mil. If you have any questions on viewing or submitting material to the docket, call Renee V. Wright, Program Manager, Docket Operations, telephone 202-366-9826.

SUPPLEMENTARY INFORMATION: Notice of this meeting is given under the Federal Advisory Committee Act, 5 U.S.C. App. (Pub. L. 92-463). The CFSAC is authorized by 46 U.S.C. 4508 and the Committee's purpose is to provide advice and recommendations to the U.S. Coast Guard and the Department of Homeland Security on matters relating to the safety of commercial fishing industry vessels.

Agenda

The CFSAC will meet to review, discuss and formulate recommendations on topics contained in the agenda:

Day 1 of the meeting will include reports, presentations, and subcommittee sessions as follows:

(1) Status of Commercial Fishing Vessel Safety Rulemaking projects resulting from requirements set forth in the Coast Guard Authorization Act of 2010.

(2) Commercial Fishing Vessel Safety District Coordinators reports on activities and initiatives, and implementation of mandatory dockside safety examinations.

(3) Industry Representatives updates on safety and survival equipment, and class rules for fishing vessels.

(4) Presentation on fatality rates by regions and fisheries, and update on safety and risk reduction related projects by the National Institute for Occupational Safety and Health.

(5) Presentation on safety standards by the National Oceanic and Atmospheric Administration, National Marine Fisheries Service.

(6) Subcommittee sessions on (a) training program requirements for individuals in charge of a vessel, and (b) standards for alternative safety compliance program(s) development.

(7) Public comment period.

Day 2 of the meeting will primarily be dedicated to continuing subcommittee sessions on training requirements and alternative safety programs, but will also include:

(1) Reports and recommendations from the subcommittees to the full committee for approval.

(2) Other safety recommendations and safety program strategies from the committee.

(3) Future plans and long range goals for the committee.

(4) Public comment period.

Paul F. Thomas,
Captain, U.S. Coast Guard, Director of Inspections and Compliance.

[FR Doc. 2012-25124 Filed 10-11-12; 8:45 am]

BILLING CODE 9110-04-P